ENVIRONMENTAL PROTECTION AGENCY

[EPA-HQ-OAR-2022-0065, EPA-HQ-OAR-2022--0049, etc.; FRL-9695-01-OAR]

Proposed Information Collection Request; Comment Request

AGENCY: Environmental Protection Agency (EPA).

ACTION: Notice.

SUMMARY: The U.S. Environmental Protection Agency is planning to submit the below listed information collection requests (ICR) to the Office of Management and Budget (OMB) for review and approval in accordance with the Paperwork Reduction Act. Before doing so, EPA is soliciting public comments on specific aspects of the proposed information collection as described below. These are proposed extensions of the currently approved ICRs. An Agency may not conduct or sponsor and a person is not required to respond to a collection of information unless it displays a currently valid OMB control number.

DATES: Comments must be submitted on or before June 7, 2022.

ADDRESSES: Submit your comments, referencing the Docket ID numbers provided for each item in the text, online using https://www.regulations.gov/ (our preferred method), by email to a-and-r-docket@epa.gov, or by mail to: EPA Docket Center, Environmental Protection Agency, Mail Code 28221T, 1200 Pennsylvania Ave. NW, Washington, DC 20460.

The EPA's policy is that all relevant comments received will be included in the public docket without change including any personal information provided, unless the comment includes profanity, threats, information claimed to be Confidential Business Information (CBI) or other information whose disclosure is restricted by statute. Out of an abundance of caution for members of the public and our staff, the EPA Docket Center and Reading Room are closed to the public, with limited exceptions, to reduce the risk of transmitting COVID-19. Our Docket Center staff will continue to provide remote customer service via email, phone, and webform. We encourage the public to submit comments via https://www.regulations.gov/ or email, as there may be a delay in processing mail and faxes. Hand deliveries and couriers may be received by scheduled appointment only. For further information on EPA Docket Center services and the current status, please visit us online at https://www.epa.gov/dockets.

FOR FURTHER INFORMATION CONTACT: Mr. Muntasir Ali, Sector Policies and Programs Division, (D243-05), Office of Air Quality Planning and Standards, U.S. Environmental Protection Agency, Research Triangle Park, North Carolina 27711; telephone number: (919) 541-0833; email address: Ali.Muntasir@epa.gov.

SUPPLEMENTARY INFORMATION: Supporting documents which explain in detail the information that the EPA will be collecting are available in the public docket for this ICR. The docket can be viewed online at https://www.regulations.gov/ or in person at the EPA Docket Center, WJC West Building, Room 3334, 1301 Constitution Ave. NW, Washington, DC. The telephone number for the Docket Center is 202-566-1744. For additional information about EPA's public docket, visit https://www.epa.gov/dockets.

Pursuant to section 3506(c)(2)(A) of the PRA, the EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. Burden is defined at 5 CFR 1320.03(b). The EPA will consider the comments received and amend the ICR as appropriate. The final ICR package will then be submitted to OMB for review and approval. At that time, the EPA will issue another Federal Register notice to announce the submission of the ICR to OMB and the opportunity to submit additional comments to OMB.

General Abstract: For all the listed ICRs in this document, owners and operators of affected facilities are required to comply with reporting and record keeping requirements for the general provisions of 40 CFR part 60, subpart A, 40 CFR part 61, subpart A, or Part 63, Subpart A, as well as the applicable specific standards. This includes submitting initial notifications, performance tests and periodic reports and results, and maintaining records of the occurrence and duration of any startup, shutdown, or malfunction in the operation of an affected facility, or any period during which the monitoring system is inoperative. These reports are used by the EPA to determine compliance with the standards.

(1) Docket ID Number: EPA-HQ-OAR-2022-0065; NESHAP for Inorganic Arsenic Emissions from Primary Copper Smelters (40 CFR part 61, subpart O) (Renewal); EPA ICR Number 1089.07; OMB Control Number 2060-0044; Expiration date October 31, 2022.

Respondents: Primary copper smelters.

Respondent's obligation to respond: Mandatory (40 CFR part 61, subpart O).

Estimated number of respondents: 3.

Frequency of response: Annually, quarterly.

Estimated annual burden: 2,380 hours.

Estimated annual cost: $263,000, includes $1,500 annualized capital or operations & maintenance (O&M) costs.

Changes in estimates: There is a projected decrease in burden due to a decrease in the number of sources subject to the regulation.

(2) Docket ID Number: EPA-HQ-OAR-2022-0049; NSPS for Pressure Sensitive Tape and Label Surface Coating (40 CFR part 60, subpart RR) (Renewal); EPA ICR Number 0658.14; OMB Control Number 2060-0004; Expiration date November 30, 2022.

Respondents: Facilities with coating lines used in the manufacture of pressure sensitive tape and label materials.

Respondent's obligation to respond: Mandatory (40 CFR part 60, subpart RR).

Estimated number of respondents: 45.

Frequency of response: Initially, semiannually.

Estimated annual burden: 4,250 hours.

Estimated annual cost: $572,000, includes $88,000 annualized capital or O&M costs.

Changes in estimates: There is a projected increase in burden due to an increase in the number of sources subject to the regulation.

(3) Docket ID Number: EPA-HQ-OAR-2022-0056; NSPS for Fossil-Fuel-Fired Steam Generating Units (40 CFR part 60, subpart D) (Renewal); EPA ICR Number 1052.13; OMB Control Number 2060-0026; Expiration date November 30, 2022.

Respondents: Fossil fuel fired steam generating units.

Respondent's obligation to respond: Mandatory (40 CFR part 60, subpart D).

Estimated number of respondents: 660.

Frequency of response: Semiannually.

Estimated annual burden: 71,500 hours.

Estimated annual cost: $18,100,000, includes $9,900,000 annualized capital or O&M costs.

Changes in estimates: There is no projected change in burden from the previous ICR.

(4) Docket ID Number: EPA-HQ-OAR-2022-0056; NSPS for Steel Plants: Electric Arc Furnaces and Argon-Oxygen Decarburization Vessels (40 CFR part 60, subparts AA and AAa) (Renewal); EPA ICR Number 1060.19; OMB Control Number 2060-0038; Expiration date November 30, 2022.

Respondents: Steel plants that produce carbon, alloy, or specialty steels.

Respondent's obligation to respond: Mandatory (40 CFR part 60, subparts AA and AAa).

Estimated number of respondents: 100.

Frequency of response: Initially, semiannually.

Estimated annual burden: 62,700 hours.

Estimated annual cost: $7,350,000, includes $207,000 annualized capital or O&M costs.

Changes in estimates: There is a projected increase in burden due to an increase in the number of sources subject to the regulation.

(5) Docket ID Number: EPA-HQ-OAR-2022-0059; NSPS for Ammonium Sulfate Manufacturing Plants (40 CFR part 60, subpart PP) (Renewal); EPA ICR Number 1066.10; OMB Control Number 2060-0032; Expiration date November 30, 2022.

Respondents: Ammonium sulfate manufacturing plants.

Respondent's obligation to respond: Mandatory (40 CFR part 60, subpart PP).

Estimated number of respondents: 2.

Frequency of response: Semiannually.

Estimated annual burden: 286 hours.

Estimated annual cost: $32,600, includes no annualized capital or O&M costs.

Changes in estimates: There is no projected change in burden from the previous ICR.

(6) Docket ID Number: EPA-HQ-OAR-2022-0061; NSPS for Lead-Acid Battery Manufacturing (40 CFR part 60, subpart KK) (Renewal); EPA ICR Number 1072.13; OMB Control Number 2060-0081; Expiration date November 30, 2022.

Respondents: Lead-acid battery manufacturing plants.

Respondent's obligation to respond: Mandatory (40 CFR part 60, subpart KK).

Estimated number of respondents: 52.

Frequency of response: Initially, semiannually.

Estimated annual burden: 4,050 hours.

Estimated annual cost: $473,000, includes $11,700 annualized capital or O&M costs.

Changes in estimates: There is no projected change in burden from the previous ICR.

(7) Docket ID Number: EPA-HQ-OAR-2022-0063; NSPS for Industrial-Commercial-Institutional Steam Generating Units (40 CFR part 60, subpart Db) (Renewal); EPA ICR Number 1088.16; OMB Control Number 2060-0072; Expiration date November 30, 2022.

Respondents: Industrial/commercial/institutional steam generating units.

Respondent's obligation to respond: Mandatory (40 CFR part 60, subpart Db).

Estimated number of respondents: 1,920.

Frequency of response: Semiannually, quarterly.

Estimated annual burden: 1,790,000 hours.

Estimated annual cost: $243,000,000, includes $36,200,000 annualized capital or O&M costs.

Changes in estimates: There is a projected increase in burden due to an increase in the number of sources subject to the regulation.

(8) Docket ID Number: EPA-HQ-OAR-2022-0066; NSPS for Grain Elevators (40 CFR part 60, subpart DD) (Renewal); EPA ICR Number 1130.13; OMB Control Number 2060-0082; Expiration date November 30, 2022.

Respondents: Grain elevators operating truck or railcar loading and unloading stations, grain dryers, or grain handling facilities.

Respondent's obligation to respond: Mandatory (40 CFR part 60, subpart DD).

Estimated number of respondents: 200.

Frequency of response: Initially, annually.

Estimated annual burden: 460 hours.

Estimated annual cost: $52,000, includes no annualized capital or O&M costs.

Changes in estimates: There is no projected change in burden from the previous ICR.

(9) Docket ID Number: EPA-HQ-OAR-2022-0070; NSPS for Flexible Vinyl and Urethane Coating and Printing (40 CFR part 60, subpart FFF) (Renewal); EPA ICR Number 1157.13; OMB Control Number 2060-0073; Expiration date November 30, 2022.

Respondents: Flexible vinyl and urethane coating and printing facilities.

Respondent's obligation to respond: Mandatory (40 CFR part 60, subpart FFF).

Estimated number of respondents: 41.

Frequency of response: Initially, semiannually.

Estimated annual burden: 1,310 hours.

Estimated annual cost: $525,000, includes $376,000 annualized capital or O&M costs.

Changes in estimates: There is a projected increase in burden due to an increase in the number of sources subject to the regulation.

(10) Docket ID Number: EPA-HQ-OAR-2022-0072; NSPS/NESHAP for Wool Fiberglass Insulation Manufacturing Plants (40 CFR part 60, subpart PPP and 40 CFR part 63, subpart NNN) (Renewal); EPA ICR Number 1160.15; OMB Control Number 2060-0114; Expiration date November 30, 2022.

Respondents: Wool fiberglass insulation manufacturing plants.

Respondent's obligation to respond: Mandatory (40 CFR part 60, subpart PPP and 40 CFR part 63, subpart NNN).

Estimated number of respondents: 42.

Frequency of response: Semiannually.

Estimated annual burden: 8,450 hours.

Estimated annual cost: $1,590,000, includes $622,000 annualized capital or O&M costs.

Changes in estimates: There is no projected change in burden from the previous ICR.

(11) Docket ID Number: EPA-HQ-OAR-2022-0018; Emission Guidelines for Large Municipal Waste Combustors Constructed on or Before September 20, 1994 (40 CFR part 60, subpart Cb) (Renewal); EPA ICR Number 1847.09; OMB Control Number 2060-0390; Expiration date November 30, 2022.

Respondents: Municipal solid waste combustion facilities.

Respondent's obligation to respond: Mandatory (40 CFR part 60, subpart Cb).

Estimated number of respondents: 77.

Frequency of response: Semiannually.

Estimated annual burden: 394,000 hours.

Estimated annual cost: $63,700,000, includes $1,530,000 annualized capital or O&M costs.

Changes in estimates: There is no projected change in burden from the previous ICR.

(12) Docket ID Number: EPA-HQ-OAR-2022-0021; NESHAP for Secondary Aluminum Production (40 CFR part 63, subpart RRR) (Renewal); EPA ICR Number 1894.10; OMB Control Number 2060-0433; Expiration date November 30, 2022.

Respondents: Secondary aluminum production facilities.

Respondent's obligation to respond: Mandatory (40 CFR part 63, subpart RRR).

Estimated number of respondents: 161.

Frequency of response: Initially, annually, semiannually.

Estimated annual burden: 12,400 hours.

Estimated annual cost: $5,520,000, includes $4,110,000 annualized capital or O&M costs.

Changes in estimates: There is no projected change in burden from the previous ICR.

(13) Docket ID Number: EPA-HQ-OAR-2022-0023; NSPS for Small Municipal Waste Combustors (40 CFR part 60, subpart AAAA) (Renewal); EPA ICR Number 1900.08; OMB Control Number 2060-0423; Expiration date November 30, 2022.

Respondents: Municipal solid waste combustion facilities.

Respondent's obligation to respond: Mandatory (40 CFR part 60, subpart AAAA).

Estimated number of respondents: 6.

Frequency of response: Initially, annually, semiannually.

Estimated annual burden: 17,700 hours.

Estimated annual cost: $2,010,000, includes $207,000 annualized capital or O&M costs.

Changes in estimates: There is a projected increase in burden due to an increase in the number of sources subject to the regulation.

(14) Docket ID Number: EPA-HQ-OAR-2022-0025; Emission Guidelines for Existing Commercial and Industrial Solid Waste Incineration Units (40 CFR part 60, subpart DDDD) (Renewal); EPA ICR Number 1927.09; OMB Control Number 2060-0451; Expiration date November 30, 2022.

Respondents: Commercial and industrial solid waste incinerators.

Respondent's obligation to respond: Mandatory (40 CFR part 60, subpart DDDD).

Estimated number of respondents: 74.

Frequency of response: Initially, annually, semiannually.

Estimated annual burden: 16,100 hours.

Estimated annual cost: $3,000,000, includes $1,130,000 annualized capital or O&M costs.

Changes in estimates: There is no projected change in burden from the previous ICR.

(15) Docket ID Number: EPA-HQ-OAR-2022-0028; NESHAP for Miscellaneous Organic Chemical Manufacturing (40 CFR part 63, subpart FFFF) (Renewal); EPA ICR Number 1969.10; OMB Control Number 2060-0533; Expiration date November 30, 2022.

Respondents: Miscellaneous organic chemical manufacturing facilities.

Respondent's obligation to respond: Mandatory (40 CFR part 63, subpart FFFF).

Estimated number of respondents: 201.

Frequency of response: Initially, semiannually.

Estimated annual burden: 327,000 hours.

Estimated annual cost: $41,600,000, includes $4,310,000 annualized capital or O&M costs.

Changes in estimates: There is a projected increase in burden due to implementation of final rule requirements.

(16) Docket ID Number: EPA-HQ-OAR-2022-0031; NESHAP for the Wood Products Surface Coating Industry (40 CFR part 63, subpart QQQQ) (Renewal); EPA ICR Number 2034.10; OMB Control Number 2060-0510; Expiration date November 30, 2022.

Respondents: Facilities that perform surface coating of wood building products.

Respondent's obligation to respond: Mandatory (40 CFR part 63, subpart QQQQ).

Estimated number of respondents: 57.

Frequency of response: Initially, semiannually.

Estimated annual burden: 20,200 hours.

Estimated annual cost: $1,490,000, includes $22,000 annualized capital or O&M costs.

Changes in estimates: There is no projected change in burden from the previous ICR.

(17) Docket ID Number: EPA-HQ-OAR-2022-0037; NSPS for Stationary Combustion Turbines (40 CFR part 60, subpart KKKK) (Renewal); EPA ICR Number 2177.08; OMB Control Number 2060-0582; Expiration date November 30, 2022.

Respondents: Stationary combustion turbine facilities.

Respondent's obligation to respond: Mandatory (40 CFR part 60, subpart KKKK).

Estimated number of respondents: 730.

Frequency of response: Initially, semiannually.

Estimated annual burden: 76,100 hours.

Estimated annual cost: $8,670,000, includes no annualized capital or O&M costs.

Changes in estimates: There is a projected increase in burden due to an increase in the number of sources subject to the regulation.

(18) Docket ID Number: EPA-HQ-OAR-2022-0039; NESHAP for Area Sources: Primary Copper Smelting, Secondary Copper Smelting, and Primary Nonferrous Metals-Zinc, Cadmium, and Beryllium (40 CFR part 63, subparts EEEEEE, FFFFFF, and GGGGGG) (Renewal); EPA ICR Number 2240.07; OMB Control Number 2060-0596; Expiration date November 30, 2022.

Respondents: Primary copper smelters, secondary copper smelters, and primary zinc, cadmium, and beryllium production facilities.

Respondent's obligation to respond: Mandatory (40 CFR part 63, subparts EEEEEE, FFFFFF, and GGGGGG).

Estimated number of respondents: 5.

Frequency of response: Initially, annually.

Estimated annual burden: 74 hours.

Estimated annual cost: $8,380, includes no annualized capital or O&M costs.

Changes in estimates: There is no projected change in burden from the previous ICR.

(19) Docket ID Number: EPA-HQ-OAR-2022-0042; NESHAP for Area Sources: Asphalt Processing and Asphalt Roofing Manufacturing (40 CFR part 63, subpart AAAAAAA) (Renewal); EPA ICR Number 2352.06; OMB Control Number 2060-0634; Expiration date November 30, 2022.

Respondents: Asphalt processing and asphalt roofing manufacturers.

Respondent's obligation to respond: Mandatory (40 CFR part 63, subpart AAAAAAA).

Estimated number of respondents: 35

Frequency of response: Semiannually.

Estimated annual burden: 1,410 hours.

Estimated annual cost: $161,000, includes $525 annualized capital or O&M costs.

Changes in estimates: There is no projected change in burden from the previous ICR.

(20) Docket ID Number: EPA-HQ-OAR-2022-0046; NESHAP for Group I Polymers and Resins (40 CFR part 63, subpart U) (Renewal); EPA ICR Number 2410.05; OMB Control Number 2060-0665; Expiration date November 30, 2022.

Respondents: Elastomer product process units and associated equipment.

Respondent's obligation to respond: Mandatory (40 CFR part 63, subpart U).

Estimated number of respondents: 19.

Frequency of response: Initially, semiannually, quarterly.

Estimated annual burden: 56,400 hours.

Estimated annual cost: $11,200,000, includes $5,230,000 annualized capital or O&M costs.

Changes in estimates: There is no projected change in burden from the previous ICR.

(21) Docket ID Number: EPA-HQ-OAR-2022-0047; NSPS for Greenhouse Gas Emissions for New Electric Utility Generating Units (40 CFR part 60, subpart TTTT) (Renewal); EPA ICR Number 2465.05; OMB Control Number 2060-0685; Expiration date November 30, 2022.

Respondents: Electric utility generating units.

Respondent's obligation to respond: Mandatory (40 CFR part 60, subpart TTTT).

Estimated number of respondents: 32

Frequency of response: Initially, quarterly.

Estimated annual burden: 883 hours.

Estimated annual cost: $ 101,000, includes no annualized capital or O&M costs.

Changes in estimates: There is no projected change in burden from the previous ICR.

(22) Docket ID Number: EPA-HQ-OAR-2022-0041; NESHAP for Paints and Allied Products Manufacturing Area Source Category (40 CFR part 63, subpart CCCCCCC) (Renewal); EPA ICR Number 2348.06; OMB Control Number 2060-0633; Expiration date December 31, 2022.

Respondents: Paint and allied products manufacturing facilities

Respondent's obligation to respond: Mandatory (40 CFR part 63, subpart CCCCCCC).

Estimated number of respondents: 219.

Frequency of response: Initially, annually, semiannually.

Estimated annual burden: 500 hours.

Estimated annual cost: $131,000, includes no annualized capital or O&M costs.

Changes in estimates: There is no projected change in burden from the previous ICR.

(23) Docket ID Number: EPA-HQ-OAR-2022-0044; NESHAP for Chemical Preparations Industry (40 CFR part 63, subpart BBBBBBB) (Renewal); EPA ICR Number 2356.06; OMB Control Number 2060-0636; Expiration date December 31, 2022.

Respondents: Chemical preparation facilities that conduct the mixing, milling, blending, or extruding of industrial chemicals.

Respondent's obligation to respond: Mandatory (40 CFR part 63, subpart BBBBBBB).

Estimated number of respondents: 26.

Frequency of response: Initially, semiannually.

Estimated annual burden: 2,210 hours.

Estimated annual cost: $252,000, includes $390 annualized capital or O&M costs.

Changes in estimates: There is no projected change in burden from the previous ICR.

(24) Docket ID Number: EPA-HQ-OAR-2022-0067; NSPS for Magnetic Tape Coating Facilities (40 CFR part 60, subpart SSS) (Renewal); EPA ICR Number 1135.14; OMB Control Number 2060-0171; Expiration date January 31, 2023.

Respondents: Magnetic tape coating facilities.

Respondent's obligation to respond: Mandatory (40 CFR part 60, subpart SSS).

Estimated number of respondents: 6.

Frequency of response: Initially, semiannually, quarterly.

Estimated annual burden: 2,030 hours.

Estimated annual cost: $321,000, includes $86,400 annualized capital or O&M costs.

Changes in estimates: There is no projected change in burden from the previous ICR.

(25) Docket ID Number: EPA-HQ-OAR-2022-0073; NESHAP for Perchloroethylene Dry Cleaning Facilities (40 CFR part 63, subpart M) (Renewal); EPA ICR Number 1415.13; OMB Control Number 2060-0234; Expiration date January 31, 2023.

Respondents: Dry cleaning facilities that use perchloroethylene (PCE).

Respondent's obligation to respond: Mandatory (40 CFR part 63, subpart M).

Estimated number of respondents: 28,020.

Frequency of response: Initially.

Estimated annual burden: 1,590,000 hours.

Estimated annual cost: $189,000,000, includes $948,000 annualized capital or O&M costs.

Changes in estimates: There is no projected change in burden from the previous ICR.

(26) Docket ID Number: EPA-HQ-OAR-2022-0074; NSPS for Secondary Brass and Bronze Production, Primary Copper Smelters, Primary Zinc Smelters, Primary Lead Smelters, Primary Aluminum Reduction Plants, and Ferroalloy Production Facilities (40 CFR part 60, subparts M, P, Q, R, S, Z) (Renewal); EPA ICR Number 1604.13; OMB Control Number 2060-0110; Expiration date January 31, 2023.

Respondents: Secondary brass and bronze production facilities, primary copper smelters, primary zinc smelters, primary lead smelters, primary aluminum reduction plants, and ferroalloy production facilities.

Respondent's obligation to respond: Mandatory (40 CFR part 60, subparts M, P, Q, R, S, Z).

Estimated number of respondents: 18.

Frequency of response: Semiannually, annually, monthly.

Estimated annual burden: 3,880 hours.

Estimated annual cost: $449,000, includes $127,000 annualized capital or O&M costs.

Changes in estimates: There is no projected change in burden from the previous ICR.

(27) Docket ID Number: EPA-HQ-OAR-2022-0076; NESHAP for Halogenated Solvent Cleaners/Halogenated Hazardous Air Pollutants (40 CFR part 63, subpart T) (Renewal); EPA ICR Number 1652.11; OMB Control Number 2060-0273; Expiration date January 31, 2023.

Respondents: Halogenated solvent cleaners.

Respondent's obligation to respond: Mandatory (40 CFR part 63, subpart T).

Estimated number of respondents: 931.

Frequency of response: Annually, semiannually, quarterly.

Estimated annual burden: 31,300 hours.

Estimated annual cost: $4,230,000, includes $660,000 annualized capital or O&M costs.

Changes in estimates: There is no projected change in burden from the previous ICR.

(28) Docket ID Number: EPA-HQ-OAR-2022-0078; NESHAP for Gasoline Distribution Facilities (40 CFR part 63, subpart R) (Renewal); EPA ICR Number 1659.11; OMB Control Number 2060-0325; Expiration date January 31, 2023.

Respondents: Gasoline distribution facilities including bulk gasoline terminals and pipeline breakout stations.

Respondent's obligation to respond: Mandatory (40 CFR part 63, subpart R).

Estimated number of respondents: 1,662.

Frequency of response: Initially, annually, semiannually.

Estimated annual burden: 15,900 hours.

Estimated annual cost: $2,160,000, includes $305,000 annualized capital or O&M costs.

Changes in estimates: There is no projected change in burden from the previous ICR.

(29) Docket ID Number: EPA-HQ-OAR-2022-0079; NESHAP for Commercial Ethylene Oxide Sterilization and Fumigation Operations (40 CFR part 63, subpart O) (Renewal); EPA ICR Number 1666.12; OMB Control Number 2060-0283; Expiration date January 31, 2023.

Respondents: Commercial ethylene oxide sterilization and fumigation facilities.

Respondent's obligation to respond: Mandatory (40 CFR part 63, subpart O).

Estimated number of respondents: 128.

Frequency of response: Initially, annually, semiannually.

Estimated annual burden: 9,480 hours.

Estimated annual cost: $1,800,000, includes $698,000 annualized capital or O&M costs.

Changes in estimates: There is a projected increase in burden due to an increase in the number of sources subject to the regulation.

(30) Docket ID Number: EPA-HQ-OAR-2022-0079; NESHAP for Magnetic Tape Manufacturing Operations (40 CFR part 63, subpart EE) (Renewal); EPA ICR Number 1678.11; OMB Control Number 2060-0326; Expiration date January 31, 2023.

Respondents: Magnetic tape manufacturing facilities.

Respondent's obligation to respond: Mandatory (40 CFR part 63, subpart EE).

Estimated number of respondents: 4.

Frequency of response: Initially, semiannually, quarterly.

Estimated annual burden: 2,710 hours.

Estimated annual cost: $344,000, includes $35,000 annualized capital or O&M costs.

Changes in estimates: There is no projected change in burden from the previous ICR.

(31) Docket ID Number: EPA-HQ-OAR-2022-0081; NESHAP for Off-Site Waste and Recovery Operations (40 CFR part 63, subpart DD) (Renewal); EPA ICR Number 1717.13; OMB Control Number 2060-0313; Expiration date January 31, 2023.

Respondents: Off-site waste and recovery facilities.

Respondent's obligation to respond: Mandatory (40 CFR part 63, subpart DD).

Estimated number of respondents: 50.

Frequency of response: Initially, semiannually.

Estimated annual burden: 47,800 hours.

Estimated annual cost: $6,420,000, includes $892,000 annualized capital or O&M costs.

Changes in estimates: There is no projected change in burden from the previous ICR.

(32) Docket ID Number: EPA-HQ-OAR-2022-0086; NESHAP for Phosphoric Acid Manufacturing and Phosphate Fertilizers Production (40 CFR part 63, subparts AA and BB) (Renewal); EPA ICR Number 1790.10; OMB Control Number 2060-0361; Expiration date January 31, 2023.

Respondents: Phosphoric acid manufacturing facilities and phosphate fertilizer production facilities.

Respondent's obligation to respond: Mandatory (40 CFR part 63, subparts AA and BB).

Estimated number of respondents:13.

Frequency of response: Initially, annually, semiannually, quarterly.

Estimated annual burden: 2,200 hours.

Estimated annual cost: $441,000, includes $186,000 annualized capital or O&M costs.

Changes in estimates: There is no projected change in burden from the previous ICR.

Penny Lassiter,
Director, Sector Policies and Programs Division.

[FR Doc. 2022-07534 Filed 4-7-22; 8:45 am]

BILLING CODE 6560-50-P